DEPARTMENT OF THE TREASURY

United States Mint

Price for the 2013 Girl Scouts of the USA Young Collector Set

AGENCY: United States Mint, Department of the Treasury.

ACTION: Notice.

SUMMARY: The United States Mint is announcing a price of $54.95 for the 2013 Girl Scouts of the USA Young Collector Set.

FOR FURTHER INFORMATION CONTACT: Marc Landry, Acting Associate Director for Sales and Marketing; United States Mint; 801 9th Street NW.; Washington, DC 20220; or call 202-354-7500.

Authority: 31 U.S.C. 5111, 5112 & 9701; Pub. L. 111-86, sec. 6.

Dated: June 20, 2013.
Richard A. Peterson,
Acting Director, United States Mint.

[FR Doc. 2013-15269 Filed 6-25-13; 8:45 am]

BILLING CODE 4810-37-P